DEPARTMENT OF ENERGY

[Docket No. EA-289]

Application To Export Electric Energy; Intercom Energy, Inc.

AGENCY: Office of Fossil Energy, DOE.

ACTION: Notice of application.

SUMMARY: Intercom Energy, Inc. (Intercom) has applied for authority to transmit electric energy from the United States to Mexico pursuant to section 202(e) of the Federal Power Act.

DATES: Comments, protests or requests to intervene must be submitted on or before May 3, 2004.

ADDRESSES: Comments, protests or requests to intervene should be addressed as follows: Office of Coal & Power Im/Ex (FE-27), Office of Fossil Energy, U.S. Department of Energy, 1000 Independence Avenue, SW., Washington, DC 20585-0350 (fax (202) 287-5736).

FOR FURTHER INFORMATION CONTACT: Rosalind Carter (Program Office) (202) 586-7983 or Michael Skinker (Program Attorney) (202) 586-2793.

SUPPLEMENTARY INFORMATION: Exports of electricity from the United States to a foreign country are regulated and require authorization under section 202(e) of the Federal Power Act (FPA) (16 U.S.C. 824a(e)).

On February 27, 2004, the Office of Fossil Energy (FE) of the Department of Energy (DOE) received an application from Intercom to transmit electric energy from the United States to Mexico. Intercom is a California company with its principal place of business in Chula Vista, California. Intercom does not own or control any electric generation facilities, nor does it have a franchised electric power service area. The electric energy which Intercom proposes to export to Mexico would be purchased from electric utilities and other suppliers within the U.S.

Intercom proposes to arrange for the delivery of electric energy to Mexico over the international transmission facilities owned by San Diego Gas & Electric Company, El Paso Electric Company, Central Power and Light Company, and Comision Federal de Electricidad, the national electric utility of Mexico. The construction of each of the international transmission facilities to be utilized by the applicants, as more fully described in the application, has previously been authorized by a Presidential permit issued pursuant to Executive Order 10485, as amended.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the Intercom application to export electric energy to Mexico should be clearly marked with Docket EA-289. Additional copies are to be filed directly with Ernesto Pallares, Chief Executive Officer, Intercom Energy, Inc., 303 H Street, Suite 401, Chula Vista, CA 91910 and Jon L. Brunenkant, James W. Moeller, Brunenkant & Haskell, LLP, 805 15th Street, NW., Suite 1101, Washington, DC, 20005 and Daniel J. Morgin, The Morgin Law Firm, P.C., 110 Juniper Street, San Diego, CA 92101.

A final decision will be made on this application after the environmental impacts have been evaluated pursuant to the National Environmental Policy Act of 1969 (NEPA), and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Regulatory Programs,” then “Pending Proceedings” from the options menus.

Issued in Washington, DC, on March 25, 2004.
Ellen Russell,
Acting Deputy Director, Electric Power Regulation, Office of Coal & Power Im/Ex, Office of Coal & Power Systems, Office of Fossil Energy.

[FR Doc. 04-7486 Filed 4-1-04; 8:45 am]

BILLING CODE 6450-01-P